COMMITTEE FOR PURCHASE FROM PEOPLE WHO ARE BLIND OR SEVERELY DISABLED

Procurement List Proposed Additions and Deletions

AGENCY: Committee for Purchase From People Who Are Blind or Severely Disabled.

ACTION: Proposed Additions to and Deletions from the Procurement List.

SUMMARY: The Committee is proposing to add products and a service to the Procurement List that will be furnished by nonprofit agencies employing persons who are blind or have other severe disabilities and deletes products previously furnished by such agencies.

Comments Must be Received on or Before: 3/5/2012.

ADDRESSES: Committee for Purchase From People Who Are Blind or Severely Disabled, Jefferson Plaza 2, Suite 10800, 1421 Jefferson Davis Highway Arlington, Virginia, 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 8501-8506) in connection with the products and service proposed for addition to the Procurement List.

Comments on this certification are invited. Commenters should identify the statement(s) underlying the certification on which they are providing additional information.

End of Certification

The following products and service are proposed for addition to Procurement List for production by the nonprofit agencies listed:

Products

Lubricant, 5-in-1 Penetrating Multipurpose oil, Biobased, Aerosol

NSN: 8030-00-NIB-0004—11 oz. net.

NSN: 8030-00-NIB-0005—18 oz. net.

NPA: The Lighthouse for the Blind, St. Louis, MO.

Contracting Activity: General Services Administration, Tools Acquisition Division I, Kansas City, MO.

Coverage: A-List for the Total Government Requirement as aggregated by the General Services Administration.

Service

Service Type/Location: Dining Facility Attendant and Cook Support, 120th Fighter Wing, Montana Air National Guard, 2800 Airport Ave B, Bldg. 62, Big Sky Diner, Great Falls, MT.

NPA: Skils'kin, Spokane, WA

Contracting Activity: Dept of the Army, W7NK USPFO Activity MT ARNG, Fort Harrison, MT.

The requirement covered by this proposed addition to the Procurement List includes Dining Facility Attendant (DFA) services at the Big Sky Diner that provides subsistence support to the 120th Fighter Wing, Montana Air National Guard, Great Falls, Montana. The Big Sky Diner is a weekend-only dining facility that is operated by military personnel who are assigned management, control, and supervision of the facility. Supervision of the facility is provided by a Senior Cook/Shift Leader, Dining Hall Supervisor, and Quality Assurance evaluators who range in military rank from Senior Airman to Master Sergeant. The acquisition strategy for the dining facility includes obtaining DFA and Cook Support from the AbilityOne Program.

The duties of the Dining Facility Attendant are cleaning and sanitation of facilities and equipment, washing of tableware, pots, pans, and all cooking utensils, subsistence and material handling, quality control, limited food preparation for salad bar and ground support/flight meals, serving and replenishing food, condiments and table items. Two weekends per year (4 days), the nonprofit agency will provide Cook Support for preparation of meats, vegetables, starches, gravies, soups, breads, etc., cleaning tables and chairs in dining areas, ensuring operator maintenance and minor repair of food service equipment. Cashier duties will be performed for all meals.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 8501-8506) in connection with the products proposed for deletion from the Procurement List.

End of Certification

The following products are proposed for deletion from the Procurement List:

Products

JR Deluxe Time Management System

NSN: 7510-01-564-6053—JR Tabbed Month Divider

Calendars

NSN: 7530-01-564-6052L—JR Deluxe Time Management System-JR Deluxe Version.

NSN: 7530-01-564-6052—JR Deluxe Time Management System-JR Deluxe Version.

NSN: 7530-01-564-6051L—JR Deluxe Time Management System-JR Deluxe Version.

NSN: 7530-01-564-6051—JR Deluxe Time Management System-JR Deluxe Version.

NSN: 7530-01-545-3741—Appt. Book Refill, 2010.

NSN: 7530-01-537-7869L—DAYMAX System, Woodland Camouflage Planner, 2010 w/Logo.

NSN: 7530-01-537-7869—DAYMAX System, Woodland, Camouflage Planner, 2010.

NSN: 7530-01-537-7865L—DAYMAX System, DOD Planner, 2010 w/Logo.

NSN: 7530-01-537-7865—DAYMAX System, DOD Planner, 2010.

NSN: 7530-01-537-7862L—DAYMAX System, Desert, Camouflage Planner, 2010 w/Logo.

NSN: 7530-01-537-7862—DAYMAX System, Desert, Camouflage Planner, 2010.

NSN: 7530-01-537-7860L—DAYMAX System, GLE, 2010, Burgundy w/Logo.

NSN: 7530-01-537-7860—DAYMAX System, GLE, 2010, Burgundy.

NSN: 7530-01-537-7855L—DAYMAX System, GLE, 2010, Navy w/Logo.

NSN: 7530-01-537-7855—DAYMAX System, GLE, 2010, Navy.

NSN: 7530-01-537-7851L—DAYMAX System, GLE, 2010, Black w/Logo.

NSN: 7530-01-537-7851—DAYMAX System, GLE, 2010, Black.

NSN: 7530-01-537-7836L—DAYMAX System, LE, 2010, Burgundy w/Logo.

NSN: 7530-01-537-7836—DAYMAX System, LE, 2010, Burgundy.

NSN: 7530-01-537-7835L—DAYMAX System, LE, 2010, Navy w/Logo.

NSN: 7530-01-537-7835—DAYMAX System, LE, 2010, Navy.

NSN: 7530-01-537-7834L—DAYMAX System, LE, 2010, Black w/Logo.

NSN: 7530-01-537-7834—DAYMAX System, LE, 2010, Black.

NSN: 7530-01-537-7833L—DAYMAX System, IE, 2010, Navy w/Logo.

NSN: 7530-01-537-7833—DAYMAX System, IE, 2010, Navy.

NSN: 7530-01-537-7832L—DAYMAX System, JR Version, 2010, Navy w/Logo.

NSN: 7530-01-537-7832—DAYMAX System, JR Version, 2010, Navy.

NSN: 7530-01-537-7831L—DAYMAX System, IE, 2010, Burgundy w/Logo.

NSN: 7530-01-537-7831—DAYMAX System, IE, 2010, Burgundy.

NSN: 7530-01-537-7830L—DAYMAX System, IE, 2010, Black w/Logo.

NSN: 7530-01-537-7830—DAYMAX System, IE, 2010, Black.

NSN: 7530-01-537-7829L—DAYMAX System, JR Version, 2010, Black w/Logo.

NSN: 7530-01-537-7829—DAYMAX System, JR Version, 2010, Black.

NSN: 7530-01-537-7828L—DAYMAX System, JR Version, 2010, Burgundy w/Logo.

NSN: 7530-01-537-7828—DAYMAX System, JR Version, 2010, Burgundy.

NSN: 7510-01-545-3781—Calendar Pad, Type 2, 2010.

NSN: 7510-01-537-7880—DAYMAX, GLE Day at a View, 2010, 7-hole.

NSN: 7510-01-537-7878—DAYMAX, Tabbed Monthly, 2010, 7-hole.

NSN: 7510-01-537-7877—DAYMAX, Tabbed Monthly, 2010, 3-hole.

NSN: 7510-01-537-7866—DAYMAX, IE/LE Month at a View, 2010, 3-hole.

NSN: 7510-01-537-7872—DAYMAX, IE/LE Day at a View, 2010, 3-hole.

NSN: 7510-01-537-7876—DAYMAX, GLE Week at a View, 2010, 7-hole.

NSN: 7510-01-537-7874—DAYMAX, GLE Month at a View, 2010, 7-hole.

NSN: 7510-01-537-7871—DAYMAX, IE/LE Week at a View, 2010, 3-hole.

NPA: The Easter Seal Society of Western Pennsylvania, Pittsburgh, PA.

Contracting Activity: General Services Administration, New York, NY.

Barry S. Lineback,
Director, Business Operations.

[FR Doc. 2012-2415 Filed 2-2-12; 8:45 am]

BILLING CODE 6353-01-P